DEPARTMENT OF AGRICULTURE

Submission for OMB Review; Comment Request

The Department of Agriculture has submitted the following information collection requirement(s) to OMB for review and clearance under the Paperwork Reduction Act of 1995, Public Law 104-13. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by June 17, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Farm Service Agency

Title: Volunteer Programs.

OMB Control Number: 0560-0232.

Summary of Collection: Section 1526 of the Food and Agriculture Act of 1981 (7 U.S.C. 2272) permits the Secretary of Agriculture to establish a program to use volunteers to perform a wide range of activities to carry out the programs of or supported by the Department of Agriculture (USDA). Each USDA agency is granted the authority to establish programs designed to provide educationally related work assignments for students in non-pay status. USDA, Departmental Regulation 4230-1 requires documentation of service performed without compensation by persons who do not receive Federal appointment. For this requirement, the information collection request is necessary to continue implementation of the programs, which allows the Farm Service Agency (FSA) and Risk Management Agency (RMA) to use volunteers to perform a wide range of activities to carry out the programs of or supported by the Agency.

Need and Use of the Information: Applicants who are accepted in the program will complete the “Service Agreement and Attendance Record.” FSA and RMA will use the reported information to respond to request for information on volunteers from the USDA Office of Human Resources Management. FSA Human Resource is responsible for determining how to document volunteer appointments. If the information were not collected for each volunteer, FSA and RMA would be unable to document service performed without compensation by persons in the program if this information were not collected for each volunteer.

Description of Respondents: Individuals or households.

Number of Respondents: 20.

Frequency of Responses: Reporting: Annually.

Total Burden Hours: 20.

Rachelle Ragland-Greene,
Acting Departmental Information Collection Clearance Officer.

[FR Doc. 2024-10865 Filed 5-16-24; 8:45 am]

BILLING CODE 3410-05-P